DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 14, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on November 2, 2020.
Donald P. Burger,
Chief, General Approvals and Permits Branch.

Application No. | Applicant | Regulation(s) affected | Nature of the special permits thereof
SPECIAL PERMITS DATA—Granted
11156-M | Orica USA Inc | 173.212(b), 173.62(c) | To modify the special permit to authorize an alternative bag closure (glued seam).
12706-M | Hexagon Ragasco As | 173.304(a), 173.335(a) | To modify the special permit to add additional Division 2.2 hazmat.
13220-M | Entegris, Inc | 173.302, 173.302c | To modify the special permit to harmonize internal pressure limits and test pressures with UN Model Regulations.
16311-M | Thai Air Attache |  | To modify the permit to include Div 1.4 materials that are in a quantity that exceed the package limitations in Column (9B) of the 172.101 HMT.
16318-M | Technical Chemical Company | 173.304(d), 173.167(a) | To modify the special permit to authorize an additional 2.1 hazmat.
20274-M | Bollore Logistics USA Inc | 172.101(j), 172.300, 172.400, 173.301, 173.302a(a)(1), 173.304a(a)(2) | To modify the special permit to add an additional 2.3 hazmat.
20851-M | Call2Recycle, Inc | 172.200, 172.600, 172.700(a) | To modify the special permit to authorize rail transport.
20904-M | Piston Automotive, LLC | 172.101(j) | To modify the special permit to authorize a change to the packaging of the battery assembly.
21049-N | Ferrellgas, L.P | 180.205(c) | To authorize the transportation in commerce of 2,338 filled cylinders that had not been requalified before the requalification became due.
21072-N | Isotek Systems, LLC | 173.417(b)(1), 173.427(a)(3), 173.453(d) | To authorize the transportation in commerce of radioactive material in alternative packaging.
21074-N | Zhejiang Meenyu Can Industry Co., Ltd | 173.304(a), 173.304(d) | To authorize the manufacture, mark, sale and use of a non-refillable, non-DOT specification inside metal container similar to a DOT specification 2Q.
21081-M | Romeo Systems, Inc | 172.102, 173.185(b) | To modify the special permit to authorize a new variant of the approved batteries and cells.
21093-N | Orbital Sciences LLC | 172.101(j)(2), 173.185(a)(1), 173.185(b)(3)(i) | To authorize the transportation in commerce of the low production lithium metal battery identified as Model No.9ER20P-20B, manufactured by Orion HIT, which are specifically designed for space flight, as Class 9 without passing UN T.6—Impact Test.
21094-N | Umbra Lab, Inc | 173.185(a)(1), 173.185(b) | To authorize the transportation of prototype lithium batteries contained in equipment (spacecraft).
21095-N | Suterra LLC | 173.306(i)(1) | To authorize the transportation in commerce of limited quantities of aerosols for which the completed package exceeds 66 lbs gross weight.
21099-N | StageFX, Inc | 173.64 | To authorize the use of the 2018 APA Standard 87-1C: Standard for the Construction, Classification, Approval, and Transportation of Entertainment Industry and Technical (EI&T) Pyrotechnics for classification of pyrotechnic materials.
21101-N | United States Aviation Co | 172.101(j), 172.200, 172.301(c), 172.302(c), 175.30 | To authorize the transportation in commerce of hazardous materials by helicopter in amounts that exceed the maximum net quantity in the HMR.
21105-M | US EPA Region 5 | 172.102(c)(1), 173.185(f)(1), 173.185(f)(3) | To modify the special permit to authorize layering fire suppressant between a layer of button cells rather than around each individual cell.
21117-N | Spaceflight, Inc | 173.185(a), 173.185(e) | To authorize the transportation in commerce of low production lithium batteries contained in spacecraft.
21119-N | Spaceflight, Inc | 173.185(a), 173.185(e) | To authorize the transportation in commerce of spacecraft containing hazardous materials.
21123-N | General Defense Corp | 172.101(j), 172.204(c)(3) | To authorize the transportation in commerce of certain Class 1 materials that are forbidden for air transportation by cargo-only aircraft.
SPECIAL PERMITS DATA—Denied
21035-N | Volkswagen Ag | 172.101(j) | To authorize the transportation in commerce of lithium ion batteries exceeding 35 kg by cargo only aircraft.
21096-N | Pacira Cryotech, Inc | 171.23, 173.306(j) | To authorize the transportation in commerce of receptacles, small that have a oxidizer subsidiary hazard under 49 CFR 173.306(j).
21103-N | Kalitta Air, LLC | 172.200, 172.300, 172.400, 175.30 | To authorize the transportation in commerce of certain hazardous materials by cargo aircraft without shipping papers, marking and labeling, and information to the pilot-in-command.
SPECIAL PERMITS DATA—Withdrawn
21118-N | Royal Thai Air Force | 172.101(j), 172.204(c)(3), 173.27(b)(2), 173.27(b)(3), 177.848(f) | To authorize the transportation in commerce of explosives by cargo aircraft which is forbidden in the regulations. (mode 4).

[FR Doc. 2020-24990 Filed 11-10-20; 8:45 am]

BILLING CODE P